DEPARTMENT OF DEFENSE

Department of the Air Force

Notice of Members of the 2020 Performance Review Board

AGENCY: Department of the Air Force, DOD.

ACTION: Notice.

SUMMARY: Notice is given of the names of members of the 2020 Performance Review Board for the Department of the Air Force effective December 4, 2020.

FOR FURTHER INFORMATION CONTACT: Please direct any written comments or requests for information to Ms. Stacia Thompson, Air Force Civilian Senior Executive Management Office, AF/A1LS, 1040 Air Force Pentagon, Washington, DC 20330-1040, (PH: 703-693-6447; or via email at stacia.thompson@us.af.mil).

SUPPLEMENTARY INFORMATION: Pursuant to 5 U.S.C. 4314(c)(4), the Department of the Air Force announces the appointment of the following members to its 2020 Senior Executive Service Performance Review Board:

1. Mr. John Roth, Assistant Secretary of the Air Force for Financial Management and Comptroller

2. Gen Stephen Wilson, Vice Chief of Staff of the United States Air Force

3. Gen Arnold Bunch, Jr. (Chair), Commander, Air Force Materiel Command

4. Hon. Shon Manasco (Co-Chair), (SAF/MR) Assistant Secretary of the Air Force for Manpower and Reserve Affairs

5. Gen David Thompson, Vice Commander, Air Force Space Command

6. Lt Gen Richard Clark, Superintendent, United States Air Force Academy

7. Lt Gen Thomas Bussiere, Deputy Commander, United States Strategic Command

8. Lt Gen Mary O'Brien, Deputy Chief of Staff, Intelligence, Surveillance, Reconnaissance, and Cyber Effects Operations

9. Mr. John Fedrigo, Principal Deputy Assistant Secretary of the Air Force for Manpower and Reserve Affairs

10. Mr. Anthony Reardon, Administrative Assistant to the Secretary of the Air Force

11. Ms. Gwendolyn R. DeFilippi, Assistant Deputy Chief of Staff for Manpower, Personnel and Services

12. Ms. Patricia M. Young, Executive Director, Air Force Materiel Command

13. Ms. Darlene Costello, Principal Deputy Assistant Secretary of the Air Force Acquisition, Technology & Logistics

14. Mr. James Brooks, Assistant Deputy Chief of Staff for Strategic Deterrence and Nuclear Integration

15. Mr. Joseph McDade, Assistant Deputy Chief of Staff for Plans and Programs

16. Mr. Craig Smith, Principal Deputy General Counsel of the Air Force

17. Mr. Andrew Cox, Director, Space Security and Defense Program

18. Mr. John Salvatori, Director, Concepts, Development, and Management Office or Director, Capabilities Management Office

The following Tier 3 Career SES members will serve as alternates:

1. Mr. Douglas Bennett, Auditor General of the Air Force

2. Mr. Richard Lombardi, Deputy Chief Management Officer

3. Ms. Kelli Seybolt, Deputy Under Secretary of the Air Force, International Affairs

4. Mr. Randall Walden, Director and Program Executive Officer for the Air Force Rapid Capabilities Office,

5. Mr. Daniel Fri, Assistant Deputy Chief of Staff, Logistics, Engineering and Force Support

6. Mr. Douglas Sanders, Deputy Administrative Assistant to the Secretary of the Air Force

7. Mr. Michael Shoults, Assistant Deputy Chief of Staff, Strategy Integration and Requirements

8. Ms. Jennifer Miller, Principal Deputy Assistant Secretary of the Air Force for Installations, Environment and Energy

9. Ms. Lauren Knausenberger, Deputy Chief Information Officer

Adriane Paris,
Acting Air Force Federal Register Liaison Officer.

[FR Doc. 2020-23963 Filed 10-28-20; 8:45 am]

BILLING CODE 5001-10-P